DEPARTMENT OF ENERGY

Federal Energy Regulatory Commission

[Docket No. EC01-122-000, et al.]

Allegheny Energy Supply Lincoln Generating Facility, LLC, et al.; Electric Rate and Corporate Regulation Filings

July 2, 2001.

Take notice that the following filings have been made with the Commission:

1. Allegheny Energy Supply Lincoln Generating Facility, LLC, Allegheny Energy Supply Company, LLC, and Allegheny Energy Global Markets, LLC

[Docket No. EC01-122-000]

Take notice that on June 26, 2001, Allegheny Energy Supply Lincoln Generating Facility, LLC (Lincoln), Allegheny Energy Supply Company, LLC (AE Supply), and Allegheny Energy Global Markets, LLC (Global Markets), filed with the Federal Energy Regulatory Commission an application pursuant to section 203 of the Federal Power Act for authorization of an intra-corporate reorganization whereby AE Supply will transfer membership interests in Lincoln to Global Markets, its affiliate.

Comment date: July 17, 2001, in accordance with Standard Paragraph E at the end of this notice.

2. Spencer Station Generating Company, L.P.

[Docket No. EG01-248-000]

Take notice that on June 27, 2001, Spencer Station Generating Company, L.P. (Spencer), located at 7500 Old Georgetown Road, Bethesda, Maryland 20814-6161, filed with the Federal Energy Regulatory Commission an application for determination of exempt wholesale generator status pursuant to Part 365 of the Commission's regulations.

Spencer will own and/or operate two hydroelectric generating projects, located on the Elm Fork of the Trinity River, near the City of Denton, Texas, with a maximum combined output of 3.2 MW and a natural gas-fired generating station with a maximum output of 176 MW located in the City of Denton, Texas.

Comment date: July 23, 2001, in accordance with Standard Paragraph E at the end of this notice. The Commission will limit its consideration of comments to those that concern the adequacy or accuracy of the application.

3. Boston Edison Company

[Docket No. ER99-35-005]

Take notice that on June 27, 2001, Boston Edison Company filed certain substitute rate schedule sheets to correct typographical errors in its First Revised Rate Schedule FERC No. 169, filed on April 26, 2001 in compliance with the Commission's order issued March 27, 2001 in this proceeding.

Comment date: July 18, 2001, in accordance with Standard Paragraph E at the end of this notice.

4. Community Energy, Inc.

[Docket No. ER01-1836-001]

Take notice that on June 25, 2001, Community Energy, Inc. (CEI) petitioned the Commission for acceptance of the amendment of the CEI Rate Schedule FERC No. 1 submitted on April 10, 2001; the granting of certain blanket approvals, including the authority to sell electricity at market-rates; and the waiver of certain Commission regulations.

CEI requested the rate schedule be effective July 1, 2001.

Comment date: July 18, 2001, in accordance with Standard Paragraph E at the end of this notice.

5. Allegheny Energy Service Corporation on Behalf of Allegheny Energy Supply Company, LLC

[Docket No. ER01-2421-000]

Take notice that on June 26, 2001, Allegheny Energy Service Corporation on behalf of Allegheny Energy Supply Company, LLC (Allegheny Energy Supply) filed Service Agreement No. 135 to add one (1) new Customer to the Market Rate Tariff under which Allegheny Energy Supply requests a waiver of notice requirements for an effective date of May 25, 2001 for service to Wisconsin Public Service Corporation. Confidential treatment of information in the Service Agreement has been requested. Copies have been provided to the Public Commission of Ohio, the Pennsylvania Public Utility Commission, the Maryland Public Service Commission, the Virginia State Corporation Commission, the West Virginia Public Service Commission and all parties of record.

Comment date: July 17, 2001, in accordance with Standard Paragraph E at the end of this notice.

6. Southern Company Services, Inc.

[Docket No. ER01-2422-000]

Take notice that on June 26, 2001, Southern Company Services, Inc. (SCS), acting on behalf of Alabama Power Company, Georgia Power Company, Gulf Power Company, Mississippi Power Company, and Savannah Electric and Power Company (collectively referred to as Southern Companies), filed a Purchase Power Agreement between Southern Companies and Alabama Electric Cooperative, Inc. (AEC) under Southern Companies' Market-Based Rate Tariff, (FERC Electric Tariff, Second Revised Volume No. 4). Under this agreement, power will be delivered to six (6) delivery points of AEC.

Comment date: July 17, 2001, in accordance with Standard Paragraph E at the end of this notice.

7. Public Service Company of New Mexico

[Docket No. ER01-2423-000]

Take notice that on June 26, 2001, Public Service Company of New Mexico (PNM) submitted for filing an executed service agreement with the PNM Wholesale Power Marketing, under the terms of PNM's Open Access Transmission Tariff. The agreement is for long-term firm point-to-point transmission service from the San Juan Generating Station 345kV Switchyard to the Coronado Generating Station 500kV Switchyard. The effective date for the agreements is May 1, 2001, the date of the service agreement. PNM's filing is available for public inspection at its offices in Albuquerque, New Mexico.

Copies of the filing have been sent to PNM Wholesale Power Marketing, PNM Transmission Development and Contracts, and to the New Mexico Public Regulation Commission.

Comment date: July 17, 2001, in accordance with Standard Paragraph E at the end of this notice.

8. Alliance Energy Services Partnership

[Docket No. ER01-2424-000]

Take notice that on June 26, 2001, Alliance Energy Services Partnership filed its Rate Schedule FERC No. 2 for purchases of electric energy and capacity from eligible independent power producers as more fully described in the filing. Alliance Energy Services Partnership requests an effective date of June 25, 2001.

Comment date: July 17, 2001, in accordance with Standard Paragraph E at the end of this notice.

9. Indeck-Rockford, L.L.C.

[Docket Nos. ER01-2425-000 and ER00-2069-001]

Take notice that on June 27, 2001, Indeck-Rockford, L.L.C. (Indeck-Rockford) tendered for filing a Notification of Change in Status and Application for Acceptance of a Revised FERC electric tariff and related Code of Conduct.

Comment date: July 18, 2001, in accordance with Standard Paragraph E at the end of this notice.

10. Entergy Services, Inc.

[Docket No. ER01-2426-000]

Take notice that on June 26, 2001, Entergy Services, Inc., (Entergy) on behalf of Entergy Gulf States, Inc., tendered for filing a Long-Term Market Rate Sales Agreement between Entergy Gulf States, Inc. and Vinton Public Power Authority under Entergy Services, Inc.'s Rate Schedule SP. Entergy requests an effective date of June 1, 2001.

Comment date: July 17, 2001, in accordance with Standard Paragraph E at the end of this notice.

11. American Electric Power Service Corporation

[Docket No. ER01-2427-000]

Take notice that on June 26, 2001, the American Electric Power Service Corporation (AEPSC), tendered for filing executed Firm and Non-Firm Transmission Service Agreements for NRG Power Marketing Inc., and Long-Term Firm Point-to-Point Transmission Service Agreement Specifications for AEPSC's Merchant Organization Power Marketing and Trading Division, American Municipal Power—Ohio, Consumers Energy Company, Constellation Power Source, Inc., and The Detroit Edison Company. All of these agreements are pursuant to the AEPCompanies' Open Access Transmission Service Tariff (OATT) that has been designated as the Operating Companies of the American Electric Power System FERC Electric Tariff Second Revised Volume No. 6. AEPSC requests waiver of notice to permit the Service Agreements to be made effective for service on and after June 1, 2001.

A copy of the filing was served upon the Parties and the state utility regulatory commissions of Arkansas, Indiana, Kentucky, Louisiana, Michigan, Ohio, Oklahoma, Tennessee, Texas, Virginia and West Virginia.

Comment date: July 17, 2001, in accordance with Standard Paragraph E at the end of this notice.

12. Entergy Services, Inc.

[Docket No. ER01-2428-000]

Take notice that on June 26, 2001, Entergy Services, Inc., (Entergy) on behalf of Entergy Gulf States, Inc., tendered for filing a Long-Term Market Rate Sales Agreement between Entergy Gulf States and City of Jasper, Texas under Entergy Services, Inc.'s Rate Schedule SP. Entergy requests an effective date of June 1, 2001.

Comment date: July 17, 2001, in accordance with Standard Paragraph E at the end of this notice.

13. QST Energy Trading, Inc.

[Docket No. ER01-2430-000]

Take notice that QST Energy Trading, Inc. (QST Trading), 300 Liberty Street, Peoria, Illinois 61602, on June 26, 2001, tendered for filing a Notice of Cancellation of its FERC Electric Rate Schedule.

Copies of the filing were served on the Illinois Commerce Commission.

Comment date: July 18, 2001, in accordance with Standard Paragraph E at the end of this notice.

14. Indeck-Ilion Limited Partnership

[Docket No. ER01-2431-000]

Take notice that Indeck-Ilion Limited Partnership (Indeck-Ilion) tendered for filing an initial rate schedule and request for certain waivers and authorizations pursuant to Section 35.12 of the regulations of the Federal Energy Regulatory Commission (the Commission). The initial rate schedule provides for market-based sales to wholesale purchasers of the output of a 58 MW natural gas and No. 2 oil fueled power generation facility located near Ilion, New York. Indeck-Ilion requests that the Commission set an effective date for the rate schedule coincident with the closing of the transaction which is the subject of the Docket No. EC01-91-000 proceeding.

A copy of the filing was served upon the New York State Public Service Commission .

Comment date: July 18, 2001, in accordance with Standard Paragraph E at the end of this notice.

15. California Independent System Operator Corporation

[Docket No. ER01-2432-000]

Take notice that on June 27, 2001, the California Independent System Operator Corporation (ISO) tendered for filing Second Revised Service Agreement No. 172 Under ISO Rate Schedule No. 1, which is a Participating Generator Agreement (PGA) between the ISO and Sierra Pacific Industries (Sierra Pacific). The ISO has revised the PGA to update the list of generating units listed in Schedule 1 of the PGA. The ISO requests that the agreement be made effective as of June 28, 2001.

The ISO states that this filing has been served upon all parties in Docket No. ER98-4273.

Comment date: July 18, 2001, in accordance with Standard Paragraph E at the end of this notice.

16. California Independent System Operator Corporation

[Docket No. ER01-2433-000]

Take notice that on June 27, 2001, the California Independent System Operator Corporation (ISO) tendered for filing Second Revised Service Agreement No. 32 Under ISO Rate Schedule No. 1, which is a Participating Generator Agreement (PGA) between the ISO and Pacific Gas and Electric Company (PG&E). The ISO has revised the PGA to update the list of generating units listed in Schedule 1 of the PGA. The ISO requests that the agreement be made effective as of June 28, 2001.

The ISO states that this filing has been served upon all parties in Docket No. ER98-1002.

Comment date: July 18, 2001, in accordance with Standard Paragraph E at the end of this notice.

17. California Independent System Operator Corporation

[Docket No. ER01-2434-000]

Take notice that on June 27, 2001, the California Independent System Operator Corporation (ISO) tendered for filing Second Revised Service Agreement No. 201 Under ISO Rate Schedule No. 1, which is a Participating Generator Agreement (PGA) between the California Independent System Operator Corporation (ISO) and Harbor Cogeneration Company (Harbor Cogeneration). The ISO has revised the PGA to update the list of generating units listed in Schedule 1 of the PGA. The ISO requests that the agreement be made effective as of June 28, 2001.

The ISO states that this filing has been served upon all parties in Docket No. ER99-1880.

Comment date: July 18, 2001, in accordance with Standard Paragraph E at the end of this notice.

18. American Transmission Company LLC

[Docket No. ER01-2435-000]

Take notice that on June 27, 2001, American Transmission Company LLC (ATCLLC) tendered for filing proposed changes to its Open Access Transmission Tariff to create a fifth rate zone encompassing the Upper Peninsula Power Company (UPPCO) service area and begin implementation of the phase-in of the UPPCO rate to the ATCLLC system average rate. ATCLLC requests an effective date of June 29, 2001.

Comment date: July 18, 2001, in accordance with Standard Paragraph E at the end of this notice.

19. Ameren Services Company

[Docket No. ER01-2436-000]

Take notice that on June 27, 2001, Ameren Services Company (ASC) tendered for filing a Service Agreement for Firm Point-to-Point Transmission Services between ASC and Ameren Energy, Inc. (customer). ASC asserts that the purpose of the Agreement is to permit ASC to provide transmission service to customer pursuant to Ameren's Open Access Transmission Tariff.

Comment date: July 18, 2001, in accordance with Standard Paragraph E at the end of this notice.

20. Summersville Hydroelectric Project

[Docket No. ER01-2438-000]

Take notice that on June 27, 2001, Gauley River Power Partners, L.P. on behalf of itself, the City of Summersville, West Virginia, and Noah Corp. (Applicants) tendered for filing with the Federal Energy Regulatory Commission revisions to the Summersville Hydroelectric Project FERC Rate Schedule No. 1, an Agreement for the Sale and Purchase of Electric Energy between Applicants and Appalachian Power Company (APCo) and for certain blanket authorizations and waivers of the Commission regulations. The proposed revisions extend the deadline for commercial operation of the Project, provides for the payment of liquidated damages for delays in commercial operations, reduces the term of the Agreement, and modifies the energy charges during years 21 through 26 of the Agreement. The proposed revisions are necessary due to delays in Project construction.

Copies of this filing were served on the Appalachian Power Company and the Public Service Commission of West Virginia.

Comment date: July 18, 2001, in accordance with Standard Paragraph E at the end of this notice.

21. Equitec Power, LLC

[Docket No. ER01-2439-000]

Take notice that on June 27, 2001, Equitec Power, LLC, (Equitec Power) petitioned the Commission for acceptance of Equitec Power Rate Schedule FERC No. 1; the granting of certain blanket approvals, including the authority to sell electricity at market-based rates; and the waiver of certain Commission regulations.

Comment date: July 18, 2001, in accordance with Standard Paragraph E at the end of this notice.

22. Xcel Energy Services, Inc.

[Docket No. ER01-2440-000]

Take notice that on June 27, 2001, Xcel Energy Services, Inc. (XES), on behalf of Southwestern Public Service Company (Southwestern), submitted for filing a Transaction Agreement between Southwestern and West Texas Municipal Power Agency. XES requests that this agreement become effective on June 5, 2001.

Comment date: July 18, 2001, in accordance with Standard Paragraph E at the end of this notice.

23. AES Medina Valley Cogen, L.L.C.

[Docket No.ER01-2441-000]

Take notice that AES Medina Valley Cogen, L.L.C. (AES Medina), 300 Liberty Street, Peoria, Illinois 61602, on June 27, 2001 tendered for filing with the Commission one service agreement with one new customer, Morgan Stanley Capital Group, Inc. Copies of the filing were served on the affected customer and the Illinois Commere Commission.

CILCO requested an effective date of May 25, 2001.

Comment date: July 18, 2001, in accordance with Standard Paragraph E at the end of this notice.

24. Allegheny Energy Service Corporation on behalf of Allegheny Energy Supply Company, LLC

[Docket No. ER01-2442-000]

Take notice that on June 27, 2001, Allegheny Energy Service Corporation on behalf of Allegheny Energy Supply Company, LLC (Allegheny Energy Supply) filed Service Agreement No. 136 to add one (1) new Customer to the Market Rate Tariff under which Allegheny Energy Supply offers generation services. Copies of the filing have been provided to the Public Utilities Commission of Ohio, the Pennsylvania Public Utility Commission, the Maryland Public Service Commission, the Virginia State Corporation Commission, the West Virginia Public Service Commission, and all parties of record.

Allegheny Energy Supply requests a waiver of notice requirements for an effective date of June 12, 2001 for MidAmerican Energy Company. Allegheny Energy Supply requests a waiver of notice requirements for an effective date of June 12, 2001 for MidAmerican Energy Company.

Comment date: July 18, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17307 Filed 7-10-01; 8:45 am]

BILLING CODE 6717-01-P